DEPARTMENT OF TRANSPORTATION

Federal Motor Carrier Safety Administration

[Docket No. FMCSA-2011-0163]

Agency Information Collection Activities; Request for Comments on a New Information Collection: Evaluating the Safety Benefits of an On-Board Monitoring System in Commercial Vehicle Operations: Independent Evaluation and Data Analysis

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The purpose of this information collection is to assess Commercial Motor Vehicle (CMV) drivers' expectations, attitudes and acceptance of an on-board monitoring system (OBMS), as a part of a Field Operational Test (FOT) study. On March 29, 2011 FMCSA published a Federal Register notice allowing for a 60-day comment period on the ICR. One comment was received.

DATES: Please send your comments by July 25, 2011. OMB must receive your comments by this date in order to act quickly on the ICR.

ADDRESSES: All comments should reference Federal Docket Management System (FDMS) Docket Number FMCSA-2011-0163. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Olu Ajayi, Research Division, Department of Transportation, Federal Motor Carrier Safety Administration, West Building 6th Floor, 1200 New Jersey Avenue, SE., Washington, DC 20590. Telephone: 202-366-0440; e-mail olu.ajayi@dot.gov. Office hours are from 9 a.m. to 5 p.m., Monday through Friday, except Federal Holidays.

SUPPLEMENTARY INFORMATION:

Title: Evaluating the Safety Benefits of an On-Board Monitoring System in Commercial Vehicle Operations: Independent Evaluation and Data Analysis.

OMB Control Number: 2126-XXXX.

Type of Request: New collection.

Respondents: Commercial motor vehicle (CMV) drivers.

Estimated Number of Respondents: 500 CMV drivers.

Estimated Time per Response: 20 minutes for the pre-study questionnaire, 15 minutes for during- and post-study questionnaires, and 20 minutes for the exit interview at the end of the study.

Expiration Date: N/A.

Frequency of Response: Drivers will be asked to take a total of four unique questionnaires administered six times over the course of 18 months.

Estimated Total Annual Burden: 792 hours [(250 responses × 20 minutes/60 minutes for pre-study questionnaire) + (1,250 responses × 15 minutes/60 minutes for intervention questionnaire) + (1,250 responses × 15 minutes/60 minutes for withdrawal questionnaire) + (250 responses × 20 minutes/60 minutes for exit interview) = 792 hours].

Background: The goal of the OBMS and safety research study FOT is to determine whether on-board monitoring and feedback will reduce at-risk behavior among CMV drivers and improve driver safety performance. The purpose of the questionnaire portion is to assess CMV drivers' acceptance of the OBMS being evaluated in the FOT. A series of four unique questionnaires will be conducted in the Baseline (no feedback), Intervention (receiving feedback), and Withdrawal (no feedback) periods. These questionnaires will address the CMV drivers' expectations, experiences and attitudes toward the OBMS and assess changes in their perception over the 18-month study period. All study questionnaires will be available in both paper and electronic form. The results will be summarized and integrated into the rest of the larger FOT study report that evaluates the effectiveness of the OBMS in improving safety and driver performance.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued on: June 20, 2011.
Kelly Leone,
Associate Administrator for Research and Information Technology.

[FR Doc. 2011-15921 Filed 6-23-11; 8:45 am]

BILLING CODE 4910-EX-P